DEPARTMENT OF COMMERCE

National Oceanic and Atmospheric Administration

[I.D. 053101B]

Cooperative Charting Program

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before August 6, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Ken Forster, N/CS26, Station 7308, 1315 East-West Highway, Silver Spring, MD 20910-3282 (phone 301-713-2737, ext. 130).

SUPPLEMENTARY INFORMATION:

I. Abstract

NOAA’s National Ocean Service (NOS) produces the official nautical charts of the United States. As part of its efforts to keep the charts up-to-date, NOS has a Memorandum of Agreement with both the United States Power Squadrons and the United States Coast Guard Auxiliary that provides for members to submit chart correction data to NOS.

II. Method of Collection

Paper forms are used, but a Web version is being created.

III. Data

OMB Number: 0648-0022.

Form Number: NOAA Forms 77-4, 77-5.

Type of Review: Regular submission.

Affected Public: Not-for-profit institutions, individuals or households.

Estimated Number of Respondents: 3,000.

Estimated Time Per Response: 3 hours.

Estimated Total Annual Burden Hours: 45,000.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 29, 2001.
Gwellnar Banks,
Management Analyst, Office of the Chief Information Officer.

[FR Doc. 01-14128 Filed 6-4-01; 8:45 am]

BILLING CODE 3510-JT-S